DEPARTMENT OF HEALTH AND HUMAN SERVICES

Centers for Disease Control and Prevention

[60 Day-16-0017; Docket No. CDC-2016-0014]

Proposed Data Collections Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on proposed revisions of the information collection entitled Application for Training (OMB Control No. 0920-0017). CDC seeks to request Office of Management and Budget approval to (1) continue to collect information through the use of the Training and Continuing Education Online New Participant Registration form for new learners to establish an account that provides CDC necessary information to process learner requests for continuing education, and (2) implement a new electronic information collection through the use of the Training and Continuing Education Online Proposal form that allows training developers to provide CDC necessary information to process and accredit trainings for continuing education.

DATES: Written comments must be received on or before April 1, 2016.

ADDRESSES: You may submit comments, identified by Docket No. CDC-2016-0014 by any of the following methods:

Federal eRulemaking Portal: Regulations.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: Leroy A. Richardson, Information Collection Review Office, Centers for Disease Control and Prevention, 1600 Clifton Road NE., MS-D74, Atlanta, Georgia 30329; phone: 404-639-7570.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Application for Training (OMB Control No. 0920-0017, Expiration 05/31/2016)—Revision—Division of Scientific Education and Professional Development (DSEPD), Center for Surveillance, Epidemiology and Laboratory Services (CSELS), Centers for Disease Control and Prevention (CDC).

Background and Brief Description

CDC offers public health training to professionals worldwide. Employees of hospitals, universities, medical centers, state and local health departments, and federal agencies apply for training to learn up-to-date public health and healthcare practices. CDC is accredited by multiple accreditation organizations to award continuing education (CE) for public health and healthcare professions.

CDC requires health professionals seeking continuing education (learners) to use the Training and Continuing Education Online (TCEO) system to establish an account by completing the TCEO New Participant Registration form. CDC/CSELS relies on this form to collect information needed to coordinate learner registration for training activities including classroom study, conferences, and e-learning.

The TCEO Proposal is a form course developers will use the TCEO system to apply for their training activities to receive continuing education accreditation through CDC. Introduction of this mechanism will allow course developers to electronically complete and submit continuing education proposals.

CDC requests OMB approval to (1) continue to collect information through the TCEO New Participant Registration form to grant public health professionals the continuing education they need to maintain professional licenses and certifications, create a transcript or summary of training at the participant's request, generate management reports, and maintain training statistics; and (2) establish a new electronic information collection that allows CDC or CDC partner course developers to electronically submit training and continuing education proposals for accreditation.

CDC's TCEO system provides an efficient and effective way for CDC to comply with accreditation organization requirements. Accreditation organizations require a method of tracking participants who complete an education activity and several require collection of profession-specific data. Some accrediting organizations require a permanent record that includes the participant's name, address, and phone number to facilitate retrieval of historical information about when a participant completed a course or several courses during a time period. These data provide the basis for a transcript or for determining whether a person is enrolled in more than one course. CDC uses the email address to verify the participant's electronic request for transcripts, verify course certificates, and send confirmation that a participant is registered for a course. Collection of demographic and profession-specific data through the TCEO New Participant Registration allows CDC to comply with accreditation organization requirements.

The TCEO Proposal will expedite submission, review, and accreditation processes and provide CDC with the information necessary to meet accreditation organization requirements, accredit, and effectively manage training activities. Examples of data to be collected for CDC to process continuing education proposals and meet accreditation organization requirements includes name, email address, phone number, and organization name.

These forms do not duplicate request for information from participants or course developers. Data are collected only once per new registration or once per course.

These information collection instruments have provided, and will continue to provide CDC with the information necessary to manage and conduct training activities pertinent to its mission to strengthen the skills of the current workforce through quality, accredited, competency-based training.

The annual burden table has been updated to reflect (1) discontinuance of the National Laboratory Training Network Registration form, (2) an increase in learners seeking continuing education, particularly through e-learning activities (16,667 burden hours), (3) the introduction of the new TCEO Proposal (600 burden hours), for a total of 17,267 burden hours. There are no costs to respondents.

Estimated Annualized Burden Hours
Type of respondent | Form name | Number of respondents | Number of responses per respondent | Average burden per response (in hours) | Total burden (in hours)
Health Professionals | Training and Continuing Education Online New Participant Registration Form | 200,000 | 1 | 5/60 | 16,667
Health Educators | Training and Continuing Education Online | 120 | 1 | 5 | 600
Total |  |  |  |  | 17,267

Leroy A. Richardson,
Chief, Information Collection Review Office, Office of Scientific Integrity, Office of the Associate Director for Science, Office of the Director, Centers for Disease Control and Prevention.

[FR Doc. 2016-01722 Filed 1-29-16; 8:45 am]

BILLING CODE 4163-18-P